DEPARTMENT OF THE INTERIOR

Bureau of Land Management

[MT-090-1430-ES; MTM-90869]

Notice of Realty Action: Recreation and Public Purposes Act Classification; Montana

AGENCY: Bureau of Land Management, Interior.

ACTION: Notice.

SUMMARY: The following public lands in Phillips County, Montana, have been examined and classified for lease to Phillips County under the provisions of the Recreation and Public Purposes Act, as amended (43 U. S. C. 869 et seq.). The lands were examined and classified in response to a Recreation and Public Purposes Act application, MTM-90869, filed on April 9, 2001, by Phillips County, who is proposing to use the lands to construct and maintain an amphitheater to be known as the Lewis and Clark Amphitheater.

Principal Montana Meridian

T. 25 N., R. 25 E.,

Sec. 17, block 8, lot 10.

Containing 2.62 acres more or less.

The lands are located within the townsite of Zortman, Montana, which is currently segregated from all forms of mineral entry. Issuance of a Recreation & Public Purposes lease is consistent with the Phillips Resource Area Resource Management Plan, dated September 1994, and is in the public interest.

The lease, when issued, will be subject to the following terms, conditions and reservations:

1. Provisions of the Recreation and Public Purposes Act and to all applicable regulations of the Secretary of the Interior.

2. All valid existing rights documented on the official public land records at the time of lease issuance.

3. The rights-of-way for telephone and electrical power purposes granted to Triangle Telephone Cooperative Inc., MTM-00999, and Big Flat Electric Cooperative Inc., MTM-00997.

Detailed information concerning this action is available for review at the office of the Bureau of Land Management, Malta Field Office, 501 South 2nd Street East, HC 65, Box 5000, Malta, Montana 59538-0047.

Upon publication of this notice in the Federal Register, the lands will be segregated from all other forms of appropriation under the public land laws, except for lease under the Recreation and Public Purposes Act. For a period of 45 days from the date of publication of this notice in the Federal Register, interested persons may submit comments regarding the proposed classification and lease of the lands to the Field Office Manager, Malta Field Office 501 South 2nd Street East, HC 65, Box 5000, Malta, Montana 59538-0047.

Classification Comments: Interested parties may submit comments involving the suitability of the land for use as an amphitheater. Comments on the classification are restricted to whether the land is physically suited for the proposal, whether the use will maximize the future use or uses of the land, whether the use is consistent with local planning and zoning or if the use is consistent with State and Federal programs.

Public comments submitted for this notice of realty action, including names and street addresses of respondents, will be available for public review at the Malta Field Office during regular business hours (7:45 a.m. to 4:30 p.m.), Monday through Friday, except holiday. Individual respondents may request confidentiality. If you wish to withhold your name or address from public review or from disclosure under the Freedom of Information Act, you must state this prominently at the beginning of your comments. Such requests will be honored to the extent allowed by law. All submissions from organizations or businesses, and from individuals identifying themselves as representatives of officials of organizations or businesses, will be made available for public inspection in their entirety.

Application Comments: Interested parties may submit comments regarding the specific use proposed in the application and plan of development, whether the Bureau of Land Management followed proper administrative procedures in reaching the decision or any other factor not directly related to the suitability of the land for amphitheater.

Any adverse comments will be reviewed by the State Director. In the absence of any adverse comments, the classification will become effective 60 days from the date of publication of this notice in the Federal Register.

Bruce W. Reed,
Malta Field Office Manager.

[FR Doc. 01-17210 Filed 7-9-01; 8:45 am]

BILLING CODE 4310-84-P